DEPARTMENT OF ENERGY

Federal Energy Regulatory Commission

[Project No. 2701-061]

Erie Boulevard Hydropower, L.P.; Notice of Revised Procedural Schedule for Final Environmental Assessment for the Proposed Project Relicense

On February 26, 2021, Erie Boulevard Hydropower, L.P. (Erie) filed an application for a new major license to continue to operate and maintain the 39.75-megawatt (MW) West Canada Creek Hydroelectric Project No. 2701 (West Canada Creek Project). On June 27, 2022, Commission staff issued a notice of intent to prepare a draft and final Environmental Assessment (EA) to evaluate the effects of relicensing the West Canada Creek Project. The notice of intent included a schedule for preparing a draft and final EA. On September 6, 2023, Commission staff issued the draft EA. By notice issued September 21, 2023, the schedule for completing a final EA was revised. The revised due date for the final EA was to be March 2024.

On February 2, 2024 Erie filed a Comprehensive Relicensing Settlement Agreement (Settlement Agreement) on behalf of itself, the U.S. Fish and Wildlife Service, the New York State Department of Environmental Conservation, and the New York State Council of Trout Unlimited. In order for Commission staff to fully consider the Settlement Agreement, stakeholder comments on the Settlement Agreement, and any additional information requested by staff, the procedural schedule for completing a final EA is being revised as follows. Further revisions to the schedule may be made as appropriate.

Milestone | Target date
Issue Final EA | September 2024.

Any questions regarding this notice may be directed to Laurie Bauer at (202) 502-6519, or by email at laurie.bauer@ferc.gov.

Dated: March 25, 2024.
Debbie-Anne A. Reese,
Acting Secretary.

[FR Doc. 2024-06770 Filed 3-29-24; 8:45 am]

BILLING CODE 6717-01-P